DEPARTMENT OF TRANSPORTATION

Federal Aviation Administration

Nineteenth Meeting: RTCA Special Committee 214/EUROCAE WG-78: Standards for Air Traffic Data Communication Services

AGENCY: Federal Aviation Administration (FAA), U.S. Department of Transportation (DOT).

ACTION: RTCA Special Committee 214 held jointly with EUROCAE WG-78: Standards for Air Traffic Data Communication Services meeting.

SUMMARY: The FAA is issuing this notice to advise the public of nineteenth meeting of RTCA Special Committee 214 to be held jointly with EUROCAE WG-78: Standards for Air Traffic Data Communication Services.

DATES: The meeting will be held August 26-30, from 9:00 a.m. to 5:00 p.m.

ADDRESS: The meeting will be held at EASA, Ottoplatz 1, D-50679 KOLN, Germany.

FOR FURTHER INFORMATION CONTACT: Sophie Bousquet, 202-330-0663, sbousquet@rtca.org or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 214/EUROCAE WG-78: Standards for Air Traffic Data Communication Services. The agenda will include the following:

August 26-30, 2013

• Welcome, Introductions, and Administrative Remarks

• Approval of Agenda

• Approval of the minutes of 16, 17 and 18 (Plenary 18 was RTCA only) and review action items

• Coordination activities- ICAO OPLINK/ACP

• Sub-Group Sessions (Tuesday, Wednesday and Friday)

• Configuration Sub-Group Report & Assignment of Action Items

• Status of Standards:

• Review of Position Papers and Contributions

• DO-280B/ED-110B Change 1 (FRAC Comments and Resolution)

• DO-281B Change 1 and DO-224C Change 1 (Release for FRAC/RTCA only)

• Baseline 2 Standards (Release for FRAC/Open Consultation), considering:

Request from FAA to revise scope and timelines of Baseline 2 Standards,

Inter-Special Committee Requirements Agreement (ISRA) with SC-227/WG-85,

Proposal from Configuration and Validation Sub-Groups to remove FIS application from scope of Baseline 2 standards.

• Upcoming meetings, dates and locations of Plenary and SG meetings

• Other Business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 24, 2013.
Paige L. Williams,
Management Analyst, Business Operations Group, ANG-A12, Federal Aviation Administration.

[FR Doc. 2013-18858 Filed 8-2-13; 8:45 am]

BILLING CODE 4910-13-P